DEPARTMENT OF TRANSPORTATION

Federal Aviation Administration

14 CFR Part 39

[Docket No. FAA-2015-1998; Directorate Identifier 2014-SW-035-AD]

RIN 2120-AA64

Airworthiness Directives; MD Helicopters Inc.

AGENCY: Federal Aviation Administration (FAA), DOT.

ACTION: Notice of proposed rulemaking (NPRM).

SUMMARY: We propose to adopt a new airworthiness directive (AD) for MD Helicopters Inc. (MDHI) Model 500N and 600N helicopters with certain rotating cone assemblies installed. This proposed AD would require establishing a life limit of 10,000 hours time-in-service (TIS) on these rotating cone assemblies. This proposed AD is prompted by the determination that MDHI created rotating cone assemblies with new dash numbers but incorrectly failed to identify them as life-limited parts. The proposed actions are intended to prevent operation of rotating cone assemblies past their life limits, failure of the rotating cone assemblies, loss of directional control, and subsequent loss of control of the helicopter.

DATES: We must receive comments on this proposed AD by August 10, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact MD Helicopters, Inc., Attn: Customer Support Division, 4555 E. McDowell Rd., Mail Stop M615, Mesa, AZ 85215-9734; telephone 1-800-388-3378; fax 480-346-6813; or at http://www.mdhelicopters.com. You may review the referenced service information at the FAA, Office of the Regional Counsel, Southwest Region, 2601 Meacham Blvd., Room 663, Fort Worth, Texas 76137.

FOR FURTHER INFORMATION CONTACT: Galib Abumeri, Aerospace Engineer, Los Angeles Aircraft Certification Office, Transport Airplane Directorate, FAA, 3960 Paramount Blvd., Lakewood, California 90712, telephone 562-627-5324; email Galib.Abumeri@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

We propose to adopt a new AD for MDHI Model 500N helicopters with a rotating cone assembly part number (P/N) 500N3740-81 installed and Model 600N helicopters with a rotating cone assembly P/N 500N3740-71 installed. This proposed AD would require establishing a new life limit for these part-numbered rotating cone assemblies. This proposed AD is prompted by the determination that MDHI created rotating cone assemblies with new dash numbers and did not identify them as life-limited parts. Although these parts have a life limit of 10,000 hours TIS, they were incorrectly omitted from the Airworthiness Limitation Section of the Rotorcraft Flight Manual. MDHI reports that some of the affected parts were sold as spares while others were installed on new helicopters in production.

The proposed actions are intended to prevent a rotating cone assembly remaining in service beyond its fatigue life. This condition could result in failure of the rotating cone assembly and subsequent loss of control of the helicopter.

FAA's Determination

We are proposing this AD because we evaluated all known relevant information and determined that an unsafe condition exists and is likely to exist or develop on other products of these same type designs.

Related Service Information

MDHI issued Service Bulletin SB500N-046 and SB600N-054 (SB) as a single bulletin on July 9, 2012. The SB calls for a one-time inspection within 100 flight hours to determine the rotating cone assembly's part number on MDHI Model 500N and 600N helicopters. The SB then states to correct the component record for certain rotating cone assemblies.

The SB also specifies determining the rotating cone assembly's total service time since new and recording this on the component record. MDHI reports that failure to comply with the SB may result in an aircraft exceeding the life limit of the rotating cone assembly and that this could lead to component failure and loss of directional control of the helicopter.

Proposed AD Requirements

This proposed AD would require within 1 year or at the next annual inspection, whichever comes later:

• Creating a component history card or equivalent record for the rotating cone assembly, P/N 500N3740-81 or P/N 500N3740-71, whichever applies to your helicopter, and recording a life limit of 10,000 hours TIS.

• Revising the Airworthiness Limitations section of the applicable maintenance manual or the Instruction for Continued Airworthiness by establishing a new retirement life of 10,000 hours TIS for each rotating cone assembly. Accomplish this requirement by making pen-and-ink changes or inserting a copy of this AD into the applicable maintenance manual or the Instruction for Continued Airworthiness.

• Removing from service any rotating cone assembly, P/N 500N3740-81 or P/N 500N3740-71, that has 10,000 or more hours TIS. Installing rotating cone assembly, P/N 500N3740-81 or P/N 500N3740-71, is prohibited unless you have complied with the previous requirements of this AD.

Differences Between This Proposed AD and the Service Information

The SB calls for inspecting the rotating cone assembly to determine its P/N. We make no requirement about how to determine the P/N. The compliance time for the SB is within 100 flight hours, while this proposed AD would require compliance within 1 year or by the next annual inspection, whichever comes later.

Costs of Compliance

We estimate that this proposed AD would affect 8 helicopters of U.S. Registry and that labor costs average $85 a work hour. Based on these estimates, we expect creating a component history card and revising the appropriate records would take 1 work-hour. No parts would be needed for a total cost of $85 per helicopter and $680 for the U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

MD Helicopters Inc.: Docket No. FAA-2015-1998; Directorate Identifier 2014-SW-035-AD.

(a) Applicability

This AD applies to MD Helicopters Inc. (MDHI) Model 500N with a rotating cone assembly part number (P/N) 500N3740-81 installed, and Model 600N helicopters with a rotating cone assembly P/N 500N3740-71 installed, certificated in any category.

(b) Unsafe Condition

This AD defines the unsafe condition as a rotating cone assembly remaining in service beyond its fatigue life. This condition could result in failure of the rotating cone assembly and loss of control of the helicopter.

(c) Comments Due Date

We must receive comments by August 10, 2015.

(d) Compliance

You are responsible for performing each action required by this AD within the specified compliance time unless it has already been accomplished prior to that time.

(e) Required Actions

(1) Within 1 year or at the next annual inspection, whichever comes later:

(i) Create a component history card or equivalent record for each rotating cone assembly, P/N 500N3740-81 and P/N 500N3740-71, and record a life limit of 10,000 hours time-in-service (TIS).

(ii) Revise the Airworthiness Limitations Section of the applicable maintenance manual or Instructions for Continued Airworthiness by establishing a new retirement life of 10,000 hours TIS for each rotating cone assembly, P/N 500N3740-81 and P/N 500N3740-71, by making pen-and-ink changes or by inserting a copy of this AD into the Airworthiness Limitations Section of the maintenance manual or the Instructions for Continued Airworthiness.

(iii) Remove from service any rotating cone assembly, P/N 500N3740-81 and P/N 500N3740-71, that has 10,000 or more hours TIS.

(2) Do not install a rotating cone assembly, P/N 500N3740-81 or P/N 500N3740-71, on any helicopter unless you have complied with the requirements of this AD.

(f) Alternative Methods of Compliance (AMOC)

(1) The Manager, Los Angeles Aircraft Certification Office, FAA, may approve AMOCs for this AD. Send your proposal to: Galib Abumeri, Aerospace Engineer, Los Angeles Aircraft Certification Office, Transport Airplane Directorate, FAA, 3960 Paramount Blvd., Lakewood, California 90712, telephone 562-627-5324; email 9-ANM-LAACO-AMOC-REQUESTS@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

MD Helicopters Inc. Service Bulletin SB500N-046/SB600N-054, dated July 9, 2012, which is not incorporated by reference, contains additional information about the subject of this AD. For service information identified in this AD, contact MD Helicopters, Inc., Attn: Customer Support Division, 4555 E. McDowell Rd., Mail Stop M615, Mesa, AZ 85215-9734; telephone 1-800-388-3378; fax 480-346-6813; or at http://www.mdhelicopters.com. You may review a copy of information at the FAA, Office of the Regional Counsel, Southwest Region, 2601 Meacham Blvd., Room 663, Fort Worth, Texas 76137.

(h) Subject

Joint Aircraft Service Component (JASC) Code: 5302, Rotorcraft Tail Boom.

Issued in Fort Worth, Texas, on May 29, 2015.
Lance T. Gant,
Acting Directorate Manager, Rotorcraft Directorate, Aircraft Certification Service.

[FR Doc. 2015-13853 Filed 6-8-15; 8:45 am]

BILLING CODE 4910-13-P